DEPARTMENT OF LABOR

Mine Safety and Health Administration

Petitions for Modification of Existing Mandatory Safety Standards

AGENCY: Mine Safety and Health Administration (MSHA), Labor.

ACTION: Notice.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before April 25, 2011.

ADDRESSES: You may submit your comments, identified by the petition's “docket number” on the subject line, using any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: April E. Nelson, Acting Director, Office of Standards, Regulations and Variances.

4. Hand-Delivery or Courier: MSHA, Office of Standards, Regulations and Variances, 1100 Wilson Boulevard, Room 2350, Arlington, Virginia 22209-3939, Attention: April E. Nelson, Acting Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-040-C.

Petitioner: Kingston Mining, Inc., Route 1, Box 76-C, Scarbro, West Virginia 25917.

Mine: Kingston No. 1 Mine, MSHA I.D. No. 46-08625, located in Fayette County, West Virginia.

Regulation Affected: 30 CFR 75.1101-1(b) (Deluge-type water spray systems).

Modification Request: The petitioner requests a modification of the existing standard to permit deluge-type water spray systems to be used without blow-off dust covers on the nozzles. The petitioner states that: (1) Weekly inspections and functional tests of its complete deluge-type water spray system are currently being conducted at the mine; (2) each nozzle is provided with a blow-off dust cover; (3) due to frequent inspections and functional testing of the system, the dust covers are not necessary because the nozzles can be maintained in an unclogged condition through weekly use; and (4) it is burdensome to recap the large number of covers weekly after each inspection and functional test. The petitioner proposes to continue its weekly inspection and functional testing of the complete deluge-type water spray system at the Kingston No. 1 Mine, and to remove the blow-off dust covers from the nozzles. The petitioner asserts that the proposed alternative method will at all times guarantee no less than the same measure of protection afforded the miners as would be provided by the existing standard.

Docket Number: M-2010-041-C.

Petitioner: Twentymile Coal LLC, Three Gateway Center, Suite 1340, 401 Liberty Avenue, Pittsburgh, Pennsylvania 15222-1000.

Mine: Foidel Creek Mine, MSHA I.D. No. 05-03836, located in Routt County, Colorado.

Regulation Affected: 30 CFR 75.1714-2(b) (Self-rescue devices; use and location requirements).

Modification Request: The petitioner requests a modification of the existing standard to permit an alternative method of compliance to allow additional outby storage caches of Self-Contained Self-Rescuers (SCSR's) to be stored along normal travelways in lieu of carrying one-hour SCSR units by pumpers, examiners, and other persons who do not have a fixed work location. The petitioner seeks modification of the existing standard that requires that self-rescue devices be worn or carried at all times by each person when underground. The petitioner states that: (1) Twentymile utilizes three entry gateroads for longwall mining. (2) Gateroad lengths range from 6,000 feet to 20,000 feet. (3) Main entry lengths range from 4,000 feet to 8,500 feet. (4) Mine examiners travel (walk) belt line entries three times per day. (5) Maximum SCSR cache spacing is 5700 feet along primary and alternate escapeways. The petitioner further states that: (a) Additional SCSR outby storage caches will be placed a maximum of 2,000 feet apart in beltlines and return air courses; (b) these additional SCSR outby storage caches will have no less than two units available for pumpers, examiners, and other persons who do not have a fixed work location and who would be expected to be traveling in the area; (c) pumpers, examiners, and other persons who do not have a fixed work location traveling along the normal travel routes will at no time be farther than 1,000 feet from a one-hour SCSR; (d) all full time personnel are issued and wear or carry an Ocenco M-20 SCSR; (e) individuals would carry a one-hour SCSR with them along with the Ocenco M-20-SCSR while traveling in mantrips or other mobile equipment; and (f) individuals traveling in mantrips or other mobile equipment will at no time be farther than 1425 feet from additional SCSRs. The petitioner asserts that the proposed alternative method will at all times guarantee no less than the same measure of protection to all miners as would be provided by the standard.

Docket Number: M-2010-043-C.

Petitioner: Twentymile Coal LLC, Three Gateway Center, Suite 1340, 401 Liberty Avenue, Pittsburgh, Pennsylvania 15222-1000.

Mine: Foidel Creek Mine, MSHA I.D. No. 05-03836, located in Routt County, Colorado.

Regulation Affected: 30 CFR 75.1714-4(b) (Additional self-contained self-rescuers (SCSRs).

Modification Request: The petitioner requests a modification of the existing standard to permit an alternative method of compliance to allow additional mantrip storage caches of Self-Contained Self-Rescuers (SCSRs) to be stored along travelways in lieu of additional SCSRs carried and stored on mantrips or mobile equipment. The petitioner seeks modification of the existing standard that requires additional SCSRs on mantrips. The petitioner states that: (1) Twentymile utilizes diesel pick-up mantrips and utility vehicles and diesel material haulage equipment for underground transportation; (2) Normal mantrip travel time to operating sections is less than 1 hour; (3) During the winter months, outside temperatures reach 40 degrees below zero Fahrenheit for extended periods of time; (4) The manufacturer recommends the unit be stored at temperatures above 10 degrees below zero Fahrenheit; (5) Because of such temperatures and the storage of SCSRs on the mantrips, there is a potential for damage to the SCSRs while they are outside the mine; (6) Maximum SCSR cache spacing is 5700 feet along primary and alternate escapeways; (7) Twentymile propose to provide additional SCSRs along travelways in lieu of additional SCSRs carried and stored on mantrips or mobile equipment. In that regard, Twentymile proposes the following alternative to providing additional oxygen along travelways: (a) the petitioner will provide additional SCSR mantrip storage caches placed half way between the existing escapeway SCSRs required by 30 CFR 75.1502 and 30 CFR 75.1714-4(c); (b) these additional SCSR mantrip storage caches will have no less than the maximum number of individuals that can be carried by the largest capacity personnel carrier; (c) all full time personnel are issued and shall wear or carry an Ocenco M-20 SCSR; (d) individuals will carry a one-hour SCSR with them along with the Ocenco M-20 SCSR while traveling in mantrips or other mobile equipment; (e) individuals traveling in mantrips or other mobile equipment will at no time be farther than 1425 feet from additional SCSRs. The petitioner asserts that the proposed alternative method will at all times guarantee no less than the same measure of protection to all miners as would be provided by the standard.

Dated: March 18, 2011.
Patricia W. Silvey,
Certifying Officer.

[FR Doc. 2011-6918 Filed 3-23-11; 8:45 am]

BILLING CODE 4510-43-P